DEPARTMENT OF HOMELAND SECURITY

Federal Emergency Management Agency

44 CFR Part 65

[Docket No. FEMA-B-7766]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changed BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Talladega | Unincorporated areas of Talladega County, (07-04-6542P) | December 14, 2007; December 21, 2007; The Daily Home | The Honorable James G. Hilber, Administrator, Talladega County, P.O. Box 6170, Talladega, AL 35161 | March 21, 2008 | 010297
Arizona:
Maricopa | Town of Buckeye, (07-09-1734P) | December 7, 2007; December 14, 2007; West Valley View | The Honorable Bobby Bryant, Mayor, Town of Buckeye, 100 North Apache Road, Suite A, Buckeye, AZ 85326 | December 19, 2007 | 040039
Yavapai | Unincorporated areas of Yavapai County, (07-09-1369P) | December 13, 2007; December 20, 2007; Prescott Daily Courier | The Honorable Chip Davis, Chairman, Yavapai County Board of Supervisors, 1015 Fair Street, Prescott, AZ 86305 | March 20, 2008 | 040093
California:
Santa Barbara | Unincorporated areas of Santa Barbara County, (06-09-BF87P) | December 20, 2007; December 27, 2007; Santa Barbara News-Press | The Honorable Brooks Firestone, Chair, Santa Barbara County Board of Supervisors, 105 East Anapamu Street, Santa Barbara, CA 93101 | December 6, 2007 | 060331
Riverside | City of Corona, (07-09-1194P) | November 1, 2007; November 8, 2007; The Press-Enterprise | The Honorable Eugene Montanez, Mayor, City of Corona, 400 South Vincentia Avenue, Corona, CA 92882 | February 7, 2008 | 060250
Colorado:
El Paso | Unincorporated areas of El Paso County, (07-08-0324P) | December 5, 2007; December 12, 2007; El Paso County Advertiser and News | The Honorable Dennis Hisey, Chairman, El Paso County Board of Commissioners, 27 East Vermijo Avenue, Colorado Springs, CO 80903-2208 | March 12, 2008 | 080059
El Paso | Unincorporated areas of El Paso County, (07-08-0475P) | December 12, 2007; December 19, 2007; El Paso County Advertiser and News | The Honorable Dennis Hisey, Chairman, El Paso County Board of Commissioners, 27 East Vermijo Avenue, Colorado Springs, CO 80903 | November 30, 2007 | 080059
Jefferson | City of Arvada, (07-08-0940P) | December 13, 2007; December 20, 2007; The Golden Transcript | The Honorable Ken Fellman, Mayor, City of Arvada, 8101 Ralston Road, Arvada, CO 80002 | March 20, 2008 | 085072
Mesa | City of Grand Junction, (07-08-0859P) | December 6, 2007; December 13, 2007; The Daily Sentinel | Mr. Jim Doody, Mayor, City of Grand Junction, 250 North Fifth Street, Grand Junction, CO 81501 | March 13, 2008 | 080117
Mesa | Unincorporated areas of Mesa County, (07-08-0859P) | December 6, 2007; December 13, 2007; The Daily Sentinel | The Honorable Craig J. Meis, Chairman, Mesa County Board of Commissioners, P.O. Box 20000, Grand Junction, CO 81502-5010 | March 13, 2008 | 080115
Florida:
Manatee | Unincorporated areas of Manatee County, (07-04-4406P) | December 6, 2007; December 13, 2007; The Bradenton Herald | The Honorable Amy E. Stein, Chairman, Manatee County Board of Commissioners, P.O. Box 1000, Bradenton, FL 34206-1000 | March 13, 2008 | 120153
Polk | City of Winter Haven, (07-04-5471P) | December 6, 2007; December 13, 2007; News Chief | The Honorable Nathaniel Birdsong, Mayor, City of Winter Haven, P.O. Box 2277, Winter Haven, FL 33883 | March 13, 2008 | 120271
Polk | Unincorporated areas of Polk County, (07-04-5883P) | December 12, 2007; December 19, 2007; The Polk County Democrat | Mr. Bob English, Chairman, Polk County Board of Commissioners, P.O. Box 9005, Drawer BC01, Bartow, FL 33831 | March 19, 2008 | 120261
Georgia: Columbia | Unincorporated areas of Columbia County, (07-04-4973P) | December 12, 2007; December 19, 2007; Columbia County News-Times | The Honorable Ron C. Cross, Chairman, Columbia County Board of Commissioners, P.O. Box 498, Evans, GA 30809 | March 19, 2008 | 130059
Illinois:
Cook | City of Hickory Hills, (07-05-6033P) | December 13, 2007; December 20, 2007; The Reporter | The Honorable Michael Howley, Mayor, City of Hickory Hills, 8652 West 95th Street, Hickory Hills, IL 60457 | November 30, 2007 | 170103
DuPage | Unincorporated areas of DuPage County, (07-05-2642P) | December 13, 2007; December 20, 2007; Daily Herald | The Honorable Robert J. Schillerstorm, Chairman, DuPage County Board, 505 North County Farm Road, Wheaton, IL 60187 | March 20, 2008 | 170197
Kansas:
Marshall | City of Marysville, (07-07-0767P) | December 6, 2007; December 13, 2007; The Marysville Advocate | The Honorable Bernie Krug, Mayor, City of Marysville, 209 North Eighth Street, Marysville, KS 66508 | March 13, 2008 | 200212
Marshall | Unincorporated areas of Marshall County, (07-07-0767P) | December 6, 2007; December 13, 2007; The Marysville Advocate | The Honorable Michael J. Keating, Head Commissioner, Marshall County, 1201 Broadway, Marysville, KS 66508 | March 13, 2008 | 200210
Kentucky: Jefferson | Metropolitan Government of Louisville-Jefferson County, (07-04-4634P) | December 13, 2007; December 20, 2007; The Courier Journal | The Honorable Jerry E. Abramson, Mayor, Metropolitan Government of Louisville-Jefferson County, 527 West Jefferson Street, Louisville, KY 40202 | March 20, 2008 | 210120
Maryland:
Frederick | Town of Emmitsburg, (07-03-0468P) | December 13, 2007; December 20, 2007; The Frederick News-Post | The Honorable James E. Hoover, Mayor, Town of Emmitsburg, 300A-1 South Seton Avenue, Emmitsburg, MD 21727 | December 31, 2007 | 240029
Frederick | Unincorporated areas of Frederick County, (07-03-0468P) | December 13, 2007; December 20, 2007; The Frederick News-Post | Ms. Jan Gardner, President, Board of Commissioners, Frederick County, 12 East Church Street, Frederick, MD 21701 | December 31, 2007 | 240027
Missouri: St. Charles | Unincorporated areas of St. Charles County, (07-07-1738P) | December 12, 2007; December 19, 2007; St. Charles Journal | The Honorable Steve Ehlmann, County Executive, St. Charles County, 201 North Second Street, St. Charles, MO 63301 | December 21, 2007 | 290315
New Jersey: Monmouth | Township of Neptune, (07-02-0634P) | December 13, 2007; December 20, 2007; Asbury Park Press | The Honorable James Manning, Jr., Mayor, Township of Neptune, P.O. Box 1125, Neptune, NJ 07754 | November 28, 2007 | 340317
North Carolina: Mecklenburg | Unincorporated areas of Mecklenburg County, (07-04-6546P) | January 14, 2008; January 21, 2008; The Charlotte Observer | Mr. Harry Jones, Sr., Mecklenburg County Manager, 600 East Fourth Street, Charlotte, NC 28202 | April 20, 2008 | 370158
Ohio:
Greene | City of Xenia, (07-05-5432P) | November 3, 2007; November 10, 2007; Xenia Daily Gazette | The Honorable Phyllis Pennewitt, Mayor, City of Xenia, 101 North Detroit Street, Xenia, OH 45385 | February 11, 2008 | 390197
Greene | Unincorporated areas of Greene County, (07-05-5432P) | November 3, 2007; November 10, 2007; Xenia Daily Gazette | The Honorable Ralph Harper, President, Greene County Board of Commissioners, 35 Greene Street, Xenia, OH 45385 | February 11, 2008 | 390193
Oregon: Clackamas | City of Wilsonville, (07-10-0469P) | December 12, 2007; December 19, 2007; Wilsonville Spokesman | The Honorable Charlotte Lehan, Mayor, City of Wilsonville, 29786 Southwest Lehan Court, Wilsonville, OR 97070 | December 31, 2007 | 410025
South Carolina:
Greenville | Unincorporated areas of Greenville County, (07-04-4899P) | December 13, 2007; December 20, 2007; The Greenville News | The Honorable Butch Kirven, Chairman, Greenville County Council, 213 League Road, Simpsonville, SC 29681 | March 20, 2008 | 450089
Greenville | Unincorporated areas of Greenville County, (07-04-5198P) | December 13, 2007; December 20, 2007; The Greenville News | Mr. Joseph Kernell, County Administrator, Greenville County, 301 University Ridge, Suite 2400, Greenville, SC 29601 | March 20, 2008 | 450089
Greenville | Unincorporated areas of Greenville County, (07-04-5413P) | December 13, 2007; December 20, 2007; The Greenville News | The Honorable Butch Kirven, Chairman, Greenville County Council, 213 League Road, Simpsonville, SC 29681 | March 20, 2008 | 450089
South Dakota: Pennington | City of Hill City, (07-08-0906P) | December 12, 2007; December 19, 2007; Hill City Prevailer-News | The Honorable Don Voorhees, Mayor, City of Hill City, City Hall, 324 Main Street, Hill City, SD 57745 | November 30, 2007 | 460116
Texas:
Collin | City of McKinney, (07-06-1354P) | December 13, 2007; December 20, 2007; McKinney Courier-Gazette | The Honorable Bill Whitfield, Mayor, City of McKinney, 222 North Tennessee Street, McKinney, TX 75070 | March 20, 2008 | 480135
Collin | City of McKinney, (08-06-0334P) | December 6, 2007; December 13, 2007; McKinney Courier-Gazette | The Honorable Bill Whitfield, Mayor, City of McKinney, 222 North Tennessee Street, McKinney, TX 75069 | November 21, 2007 | 480135
Collin and Dallas | City of Sachse, (07-06-2553P) | December 14, 2007; December 21, 2007; The Rowlett Lakeshore Times | The Honorable Mike Felix, Mayor, City of Sachse, 5109 Peachtree Lane, Sachse, TX 75048 | March 21, 2008 | 480186
Dallas | Town of Highland Park, (07-06-1969P) | December 13, 2007; December 20, 2007; The Park Cities News | The Honorable William D. White, Jr., Mayor, Town of Highland Park, 4700 Drexel Drive, Highland Park, TX 75205 | March 20, 2008 | 480178
El Paso | City of El Paso, (07-06-2364P) | December 13, 2007; December 20, 2007; El Paso Times | The Honorable John Cook, Mayor, City of El Paso, Two Civic Center Plaza, Tenth Floor, El Paso, TX 79901 | November 30, 2007 | 480214
Johnson | City of Burleson, (07-06-2685P) | December 12, 2007; December 19, 2007; Burleson Star | The Honorable Kenneth Shetter, Mayor, City of Burleson, 141 West Renfro Street, Burleson, TX 76028 | March 19, 2008 | 485459
Randall | City of Canyon, (07-06-1472P) | December 16, 2007; December 23, 2007; The Canyon News | The Honorable Quinn Alexander, Mayor, City of Canyon, 301 16th Street, Canyon, TX 79015 | March 24, 2008 | 480533
Randall | Unincorporated areas of Randall County, (07-06-1472P) | December 16, 2007; December 23, 2007; The Canyon News | The Honorable Ernie Houdashell, Randall County Judge, 400 16th Street, Canyon, TX 79015 | March 24, 2008 | 480532
Tarrant | City of Grapevine, (07-06-1696P) | December 6, 2007; December 13, 2007; Northeast Tarrant Star-Telegram | The Honorable William D. Tate, Mayor, City of Grapevine, P.O. Box 95104, Grapevine, TX 76099 | November 21, 2007 | 480598
Tarrant | City of North Richland Hills, (07-06-2421P) | December 13, 2007; December 20, 2007; Fort Worth Star-Telegram | The Honorable T. Oscar Trevino, Jr., P.E., Mayor, City of North Richland Hills, 7301 Northeast Loop 820, North Richland Hills, TX 76180 | March 20, 2008 | 480607
Travis | City of Lakeway, (07-06-1024P) | December 6, 2007; December 13, 2007; Austin American-Statesman | The Honorable Steve Swan, Mayor, City of Lakeway, 1102 Lohman's Crossing, Lakeway, TX 78734 | December 20, 2007 | 481303
Virginia:
Fauquier | Unincorporated areas of Fauquier County, (07-03-1209P) | December 5, 2007; December 12, 2007; Fauquier Times Democrat | The Honorable Harry Atherton, Chairman, Fauquier County Board of Supervisors, 10 Hotel Street, Suite 208, Warrenton, VA 20186 | March 12, 2008 | 510055
Fauquier | Unincorporated areas of Fauquier County, (07-03-1250P) | October 31, 2007; November 7, 2007; Fauquier Times Democrat | The Honorable Harry Atherton, Chairman, Fauquier County Board of Supervisors, 10 Hotel Street, Suite 208, Warrenton, VA 20186 | February 7, 2008 | 510055
West Virginia: Jefferson | Unincorporated areas of Jefferson County, 07-03-0824P) | December 13, 2007; December 20, 2007; The Journal | The Honorable Frances Morgan, President, Jefferson County Board of Commissioners, P.O. Box 250, Charles Town, WV 25414 | March 20, 2008 | 540065

(Catalog of Federal Domestic Assistance No. 97.022, “Flood Insurance.”)

Dated: February 26, 2008.
David I. Maurstad,
Federal Insurance Administrator of the National Flood Insurance Program, Department of Homeland Security, Federal Emergency Management Agency.

[FR Doc. E8-4621 Filed 3-7-08; 8:45 am]

BILLING CODE 9110-12-P